DEPARTMENT OF HEALTH AND HUMAN SERVICES

Centers for Disease Control and Prevention

Advisory Committee on Immunization Practices

In accordance with section 10(a)(2) of the Federal Advisory Committee Act (Public Law 92-463), the Centers for Disease Control and Prevention (CDC) announce the following Federal Committee meeting.

Name: Advisory Committee on Immunization Practices (ACIP).

Times and Dates:

8 a.m.-6:30 p.m., February 10, 2005.

8 a.m.-4:30 p.m., February 11, 2005.

Place: Atlanta Marriott Century Center, 2000 Century Boulevard, N.E., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters To Be Discussed: The agenda will include discussions on Hepatitis B vaccine recommendations; recommendations of use of Hepatitis A vaccine; Human Papilloma Virus vaccine working group update; Meningococcal conjugate vaccine and possible VFC vote on meningococcal vaccine use if the vaccine is licensed; varicella prevention; influenza vaccine recommendations for 2005; pertussis vaccine booster dose policy; polio outbreak response and stockpile planning; revisions to the general recommendations; yellow fever vaccine safety work group update; proposal for use of Evidence-based recommendations; rotavirus vaccine update; and Departmental updates.

Agenda items are subject to change as priorities dictate.

Contact Person for More Information: Demetria Gardner, Epidemiology and Surveillance Division, National Immunization Program, CDC, 1600 Clifton Road, NE., (E-61), Atlanta, Georgia 30333, telephone (404) 639-8096, fax (404) 639-8616.

The Director, Management Analysis and Services Office, has been delegated the authority to sign Federal Register notices pertaining to announcements of meetings and other committee management activities for both the CDC and ATSDR.

Dated: January 20, 2005.
Alvin Hall,
Director, Management Analysis and Services Office, Centers for Disease Control and Prevention.

[FR Doc. 05-1389 Filed 1-25-05; 8:45 am]

BILLING CODE 4163-18-P